DEPARTMENT OF COMMERCE

International Trade Administration

[A-552-814]

Utility Scale Wind Towers From the Socialist Republic of Vietnam: Preliminary Determination of No Shipments, and Preliminary Partial Rescission of Antidumping Duty Administrative Review; 2016-2017

AGENCY: Enforcement and Compliance, International Trade Administration, Department of Commerce.

SUMMARY: The Department of Commerce (the Department) is conducting an administrative review of the antidumping duty order on utility scale wind towers (wind towers) from the Socialist Republic of Vietnam (Vietnam). This review covers respondent CS Wind Group. The period of review (POR) is February 1, 2016, through January 31, 2017. We preliminarily find no evidence of any shipments of subject merchandise by CS Wind Group during the POR, and are therefore issuing a preliminary no shipments determination.

DATES: Applicable November 6, 2017.

FOR FURTHER INFORMATION CONTACT: Trisha Tran, AD/CVD Operations, Office IV, Enforcement and Compliance, International Trade Administration, U.S. Department of Commerce, 1401 Constitution Avenue NW., Washington, DC 20230; telephone: (202) 482-4852.

SUPPLEMENTARY INFORMATION:

Scope of the Order

The merchandise covered by this order are certain wind towers, whether or not tapered, and sections thereof. Merchandise covered by the order is currently classified in the Harmonized Tariff System of the United States (HTSUS) under subheadings 7308.20.0020 ¹ or 8502.31.0000.² Prior to 2011, merchandise covered by the order was classified in the HTSUS under subheading 7308.20.0000. While the HTSUS subheadings are provided for convenience and customs purposes, the written description of the scope of the order is dispositive. A full description of the scope of the order is contained in the Preliminary Decision Memorandum, which is hereby adopted by this notice.³

¹ Wind towers are classified under HTSUS 7308.20.0020 when imported as a tower or tower section(s) alone.

² Wind towers may also be classified under HTSUS 8502.31.0000 when imported as part of a wind turbine (i.e., accompanying nacelles and/or rotor blades).

³ For a full description of the scope of the order, see Memorandum “Decision Memorandum for the Preliminary Results of the 2016-2017 Antidumping Duty Administrative Review of Utility Scale Wind Towers from the Socialist Republic of Vietnam” (Preliminary Decision Memorandum), dated concurrently with this notice.

Methodology

The Department is conducting this review in accordance with section 751(a)(2) of the Tariff Act of 1930, as amended (the Act). For a full description of the methodology underlying our conclusions, see Preliminary Decision Memorandum. The Preliminary Decision Memorandum is a public document and is on file electronically via Enforcement and Compliance's Antidumping and Countervailing Duty Centralized Electronic Service System (ACCESS). ACCESS is available to registered users at https://access.trade.gov and in the Central Records Unit, Room B8024 of the main Department of Commerce building. In addition, a complete version of the Preliminary Decision Memorandum can be accessed directly on the Internet at http://enforcement.trade.gov/frn/index.html. The signed Preliminary Decision Memorandum is identical in content.

Preliminary Partial Rescission of Antidumping Duty Administrative Review

Pursuant to 19 CFR 351.213(d)(1), the Department will rescind an administrative review, in whole or in part, if a party that requested the review withdraws its request within 90 days of the date of publication of the notice of initiation of the requested review. The petitioner, Wind Tower Trade Coalition, timely withdrew its requests for an administrative review of Vina Halla Heavy Industries Ltd. and UBI Tower Sole Member Company Ltd. within 90 days of the Initiation Notice ⁴ of this review.⁵ Accordingly, the Department is rescinding this review with respect to these two companies and the remaining entries subject to the instant review are of wind towers produced in Vietnam with respect to the CS Wind Group where CS Wind Group was (1) the producer but not the exporter, or (2) the exporter but not the producer.⁶

⁴ Initiation of Antidumping and Countervailing Duty Administrative Reviews, 82 FR 17188 (April 10, 2017) (Initiation Notice).

⁵ Letter from the petitioner, “Utility Scale Wind Towers from the Socialist Republic of Vietnam: Withdrawal of Administrative Review Request and Response to CS Wind's No Shipment Letter,” dated June 5, 2017.

⁶ Utility Scale Wind Towers from the Socialist Republic of Vietnam: Notice of Amended Initiation of Antidumping Duty Administrative Review; 2016-2017, 82 FR 24943 (May 31, 2017).

Preliminary Determination of No Shipments

Based on information CS Wind Group submitted after the initiation of this administrative review, and due to the fact that we have not received any information from U.S. Customs and Border Protection (CBP) indicating that CS Wind Group had entries where CS Wind Group was (1) the producer but not the exporter, or (2) the exporter but not the producer during the POR, the Department has preliminarily determined that the record evidence indicates that CS Wind Group had no shipments of subject merchandise during the POR.⁷

⁷ See Letter from CS Wind Group, “No Shipment Letter for CS Wind Group: Fourth Administrative Review of the Antidumping Duty Order on Utility Scale Wind Towers from Vietnam,” dated June 1, 2017; see also Letter from Department, “Antidumping Duty Administrative Review of Utility Scale Wind Towers from the Socialist Republic of Vietnam for 2/1/16-1/31/17: Results of U.S. Customs and Border Protection Database Query,” dated April 27, 2017.

Consistent with an announced refinement to its assessment practice in non-market economy cases, the Department is not rescinding this review but intends to complete the review with respect to CS Wind Group for which it has preliminarily found no shipments and issue appropriate instructions to CBP based on the final results of the review.⁸

⁸ See Non-Market Economy Antidumping Proceedings: Assessment of Antidumping Duties, 76 FR 65694, 65694-95 (October 24, 2011) and the “Assessment Rates” section, below.

Assessment Rates

Upon issuance of the final results, the Department will determine, and CBP shall assess, antidumping duties on all appropriate entries covered by this review.⁹ The Department intends to issue assessment instructions to CBP 15 days after the publication date of the final results of this review. For entries of subject merchandise during the POR produced but not exported or exported but not produced by CS Wind Group, we will instruct CBP to liquidate unreviewed entries at the Vietnam-wide rate if there was no rate for the intermediate company or companies involved in the transaction.¹⁰ For entries of subject merchandise during the POR produced and exported by CS Wind Group, these entries continue to be excluded from the order and will remain enjoined pursuant to the terms of the injunction during the pendency of any appeals process.¹¹

⁹ See 19 CFR 351.212(b)(1).

¹⁰ See Antidumping and Countervailing Duty Proceedings: Assessment of Antidumping Duties, 68 FR 23954 (May 6, 2003).

¹¹ See Utility Scale Wind Towers from the Socialist Republic of Vietnam: Notice of Court Decision Not in Harmony with the Final Determination of Less Than Fair Value Investigation and Notice of Amended Final Determination of Investigation, 82 FR 15493 (March 29, 2017) (Timken Notice).

Additionally, for the companies for which this review is rescinded, antidumping duties shall be assessed at rates equal to the cash deposit of estimated antidumping duties required at the time of entry, or withdrawal from warehouse, for consumption, in accordance with 19 CFR 351.212(c)(l)(i). The Department intends to issue appropriate assessment instructions to CBP 15 days after publication of this notice.

Disclosure and Public Comment

Pursuant to 19 CFR 351.309(c), interested parties may submit case briefs no later than 30 days after the date of publication of this notice.¹² Rebuttal briefs, limited to issues raised in the case briefs, may be filed not later than five days after the date for filing case briefs.¹³ Parties who submit case briefs or rebuttal briefs in this proceeding are encouraged to submit with each argument: (1) A statement of the issue; (2) a brief summary of the argument; and (3) a table of authorities.¹⁴ Case and rebuttal briefs should be filed using ACCESS.¹⁵ In order to be properly filed, ACCESS must successfully receive an electronically-filed document in its entirety by 5 p.m. Eastern Time on the date on which it is due.

¹² See 19 CFR 351.309(c)(ii).

¹³ See 19 CFR 351.309(d).

¹⁴ See 19 CFR 351.309(c)(2) and (d)(2).

¹⁵ See 19 CFR 351.303.

Pursuant to 19 CFR 351.310(c), interested parties who wish to request a hearing, or to participate if one is requested, must submit a written request to the Assistant Secretary for Enforcement and Compliance, filed electronically via ACCESS, within 30 days after the date of publication of this notice.¹⁶ Requests should contain: (1) The party's name, address, and telephone number; (2) the number of participants; and (3) a list of issues to be discussed. Issues raised in the hearing will be limited to those raised in the respective case briefs.

¹⁶ See 19 CFR 351.310(c).

The Department intends to issue the final results of this administrative review, including the results of its analysis of the issues raised in any written briefs, not later than 120 days after the date of publication of this notice, unless extended, pursuant to section 751(a)(3)(A) of the Act.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act.

Dated: October 31, 2017.
Gary Taverman,
Deputy Assistant Secretary for Antidumping and Countervailing Duty Operations, performing the non-exclusive functions and duties of the Assistant Secretary for Enforcement and Compliance.

[FR Doc. 2017-24080 Filed 11-3-17; 8:45 am]

BILLING CODE 3510-DS-P